FEDERAL COMMUNICATIONS COMMISSION

47 CFR Part 73

[DA 01-2557, MM Docket No. 01-163, RM-10134]

Digital Television Broadcast Service; Bozeman, MT

AGENCY: Federal Communications Commission.

ACTION: Final rule.

SUMMARY: The Commission, at the request of Montana State University, licensee of noncommercial station KUSM(TV), NTSC channel *9, Bozeman, Montana, substitutes DTV channel *8 for DTV channel *20 at Bozeman, Montana. See 66 FR 39726, August 1, 2001. DTV channel *8 can be allotted to Bozeman, Montana, in compliance with the principle community coverage requirements of Section 73.625(a) at coordinates 45-40-24 N. and 110-52-02 W. with a power of 160, HAAT of 305 meters and with a DTV service population of 80 thousand. However, since the community of Bozeman is located within 400 kilometers of U.S.-Canadian border, concurrence from the Canadian government has been obtained for this allotment. With this action, this proceeding is terminated.

DATES: Effective December 24, 2001.

FOR FURTHER INFORMATION CONTACT: Pam Blumenthal, Mass Media Bureau, (202) 418-1600.

SUPPLEMENTARY INFORMATION: This is a synopsis of the Commission's Report and Order, MM Docket No. 01-163, adopted November 2, 2001, and released November 7, 2001. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Montana, is amended by removing DTV channel *20 and adding DTV channel *8 at Bozeman.

Federal Communications Commission.
Barbara A. Kreisman,
Chief, Video Services Division, Mass Media Bureau.

[FR Doc. 01-28106 Filed 11-8-01; 8:45 am]

BILLING CODE 6712-01-P